DEPARTMENT OF ENERGY

Federal Energy Regulatory Commission

Combined Notice of Filings #1

Take notice that the Commission received the following electric rate filings:

Docket Numbers: ER10-2249-006.

Applicants: Portland General Electric Company.

Description: Notice of Change in Status of Portland General Electric Company.

Filed Date: 8/29/16.

Accession Number: 20160829-5116.

Comments Due: 5 p.m. ET 9/19/16.

Docket Numbers: ER15-1706-003.

Applicants: Newark Energy Center, LLC.

Description: Compliance filing: Settlement Compliance Filing to be effective 7/1/2015.

Filed Date: 8/29/16.

Accession Number: 20160829-5151.

Comments Due: 5 p.m. ET 9/19/16.

Docket Numbers: ER15-2254-002.

Applicants: Scrubgrass Generating Company, L.P.

Description: Compliance filing: Settlement Compliance Filing to be effective 9/1/2015.

Filed Date: 8/29/16.

Accession Number: 20160829-5195.

Comments Due: 5 p.m. ET 9/19/16.

Docket Numbers: ER16-1707-003.

Applicants: Upper Peninsula Power Company.

Description: Tariff Amendment: 3rd Amended Project Services Agreement to be effective 9/3/2016.

Filed Date: 8/29/16.

Accession Number: 20160829-5200.

Comments Due: 5 p.m. ET 9/19/16.

Docket Numbers: ER16-2226-000.

Applicants: McHenry Battery Storage, LLC.

Description: Supplement to July 18, 2016 McHenry Battery Storage, LLC tariff filing [substitute Attachment D] under ER16-2226.

Filed Date: 8/4/16.

Accession Number: 20160804-5086.

Comments Due: 5 p.m. ET 9/12/16.

Docket Numbers: ER16-2293-001.

Applicants: Drift Sand Wind Project, LLC.

Description: Tariff Amendment: MBR Tariff to be effective 9/23/2016.

Filed Date: 8/29/16.

Accession Number: 20160829-5138.

Comments Due: 5 p.m. ET 9/19/16.

Docket Numbers: ER16-2496-000.

Applicants: CXA Sundevil I, Inc.

Description: Baseline eTariff Filing: Application for Market Based Rate to be effective 9/30/2016.

Filed Date: 8/29/16.

Accession Number: 20160829-5000.

Comments Due: 5 p.m. ET 9/19/16.

Docket Numbers: ER16-2497-000.

Applicants: CXA Sundevil II, Inc.

Description: Baseline eTariff Filing: Application for Market Based Rate to be effective 9/30/2016.

Filed Date: 8/26/16.

Accession Number: 20160829-5001.

Comments Due: 5 p.m. ET 9/16/16.

Docket Numbers: ER16-2498-000.

Applicants: Portland General Electric Company.

Description: § 205(d) Rate Filing: PGE11 MBR Revisions Sec 6 and 7 update to be effective 8/29/2016.

Filed Date: 8/29/16.

Accession Number: 20160829-5002.

Comments Due: 5 p.m. ET 9/19/16.

Docket Numbers: ER16-2499-000.

Applicants: Southwest Power Pool, Inc.

Description: § 205(d) Rate Filing: 2698 Exelon Generation Market Participant Agr Cancellation to be effective 8/1/2016.

Filed Date: 8/29/16.

Accession Number: 20160829-5139.

Comments Due: 5 p.m. ET 9/19/16.

Docket Numbers: ER16-2500-000.

Applicants: PJM Interconnection, L.L.C.

Description: § 205(d) Rate Filing: Amendment to First Revised WMPA, SA No. 2933, Queue No. W2-076 to be effective 5/23/2014.

Filed Date: 8/29/16.

Accession Number: 20160829-5141.

Comments Due: 5 p.m. ET 9/19/16.

Docket Numbers: ER16-2501-000.

Applicants: Nicolis, LLC.

Description: Baseline eTariff Filing: Application for Market Based Rate to be effective 8/30/2016.

Filed Date: 8/29/16.

Accession Number: 20160829-5158.

Comments Due: 5 p.m. ET 9/19/16.

Docket Numbers: ER16-2502-000.

Applicants: Tropico, LLC.

Description: Baseline eTariff Filing: Application for Market Based Rate to be effective 8/30/2016.

Filed Date: 8/29/16.

Accession Number: 20160829-5159.

Comments Due: 5 p.m. ET 9/19/16.

Docket Numbers: ER16-2503-000.

Applicants: Public Service Company of Colorado.

Description: § 205(d) Rate Filing: Att R-PSCo Comp to ER16-1088 Filing to be effective 4/16/2016.

Filed Date: 8/29/16.

Accession Number: 20160829-5161.

Comments Due: 5 p.m. ET 9/19/16.

Docket Numbers: ER16-2504-000.

Applicants: Public Service Company of Colorado.

Description: § 205(d) Rate Filing: PSCo Wind Integ Compl to ER14-1969-006 to be effective 4/16/2016.

Filed Date: 8/29/16.

Accession Number: 20160829-5162.

Comments Due: 5 p.m. ET 9/19/16.

Docket Numbers: ER16-2505-000.

Applicants: Duke Energy Indiana, LLC.

Description: § 205(d) Rate Filing: Amended and Restated Power Coordination Agreement RS No. 267 to be effective 10/28/2016.

Filed Date: 8/29/16.

Accession Number: 20160829-5216.

Comments Due: 5 p.m. ET 9/19/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2016.
Nathaniel J. Davis, Sr.,
Deputy Secretary.

[FR Doc. 2016-21527 Filed 9-6-16; 8:45 am]

BILLING CODE 6717-01-P